DEPARTMENT OF DEFENSE

Office of the Secretary

[Docket ID: DOD-2025-OS-0477]

Proposed Collection; Comment Request

AGENCY: Office of the Under Secretary of Defense for Personnel and Readiness (OUSD (P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 17, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of Military Family Readiness Policy, 4800 Mark Center Drive, Suite 3G15, Alexandria, VA 22350, Josie Beets, (571)372-5320.

SUPPLEMENTARY INFORMATION:

Title; Associated Form; And OMB Number: Spouse Education and Career Opportunities (SECO) Program; OMB Control Number 0704-0556.

Needs And Uses: The DoD SECO Program is the primary source of education, career and employment counseling for all military spouses who are seeking post-secondary education, training, licenses and credentials needed for portable career employment. The SECO system delivers the resources and tools necessary to assist spouses of service members with career exploration/discovery, career education and training, employment readiness, and career connections at any point within the spouse career lifecycle. It is imperative that the DoD collect data to ensure that the SECO program is meeting its overarching goal of increasing employment opportunities for military spouses. The DoD requires the information in the proposed collection for program planning and management purposes. Collected information will ensure that the SECO program will be able to collect relevant metrics and make determinations of program viability and improvement. Additionally, the data collected is utilized to build a spouse profile that allows information to be saved over time and to prepopulate information into tools such as resume builders and career and education planning resources.

Affected Public: Individuals or households.

Annual Burden Hours: 12,124.

Number of Respondents: 24,247.

Responses per Respondent: 1.

Annual Responses: 24,247.

Average Burden per Response: 30 minutes.

Frequency: On Occasion.

Dated: August 13, 2025.
Aaron T. Siegel,
Alternate OSD Federal Register, Liaison Officer, Department of Defense.

[FR Doc. 2025-15635 Filed 8-15-25; 8:45 am]

BILLING CODE 6001-FR-P